DEPARTMENT OF COMMERCE

National Oceanic and Atmospheric Administration

RIN 0648-XB55

Marine Mammals; File No. 633-1778

AGENCY: National Marine Fisheries Service (NMFS), National Oceanic and Atmospheric Administration (NOAA), Commerce.

ACTION: Notice; issuance of permit amendment.

SUMMARY: Notice is hereby given that the Center for Coastal Studies, Principal Investigator: Richard Delaney, has been issued an amendment to scientific research Permit No. 633-1778.

ADDRESSES: The amendment and related documents are available for review upon written request or by appointment in the following offices:

Permits, Conservation and Education Division, Office of Protected Resources, NMFS, 1315 East-West Highway, Room 13705, Silver Spring, MD 20910; phone (301)713-2289; fax (301)427-2521;

Northeast Region, NMFS, One Blackburn Drive, Gloucester, MA 01930-2298; phone (978)281-9300; fax (978)281-9394; and

Southeast Region, NMFS, 263 13th Avenue South, Saint Petersburg, Florida 33701; phone (727)824-5312; fax (727)824-5309.

FOR FURTHER INFORMATION CONTACT: Brandy Hutnak or Carrie Hubard, (301)713-2289.

SUPPLEMENTARY INFORMATION: On March 21, 2005, notice was published in the Federal Register (70 FR 13481) that a scientific research permit (No. 633-1778), issued June 26, 2006 (71 FR 40995), had been requested by the above-named individual. A portion of the action area, as originally requested, was left out of the permit as an oversight, although it was previously analyzed. On March 11, 2007, the applicant requested that the permit be amended to include the entire action area, as requested in the original application. This amendment was issued on July 19, 2007. The requested amendment has been granted under the authority of the Marine Mammal Protection Act of 1972, as amended (16 U.S.C. 1361 et seq.), the regulations governing the taking and importing of marine mammals (50 CFR part 216), the Endangered Species Act of 1973, as amended (ESA; 16 U.S.C. 1531 et seq.), and the regulations governing the taking, importing, and exporting of endangered and threatened species (50 CFR 222-226).

This amendment extends the action area to include all U.S. waters of the North Atlantic Ocean (with the exception of the Gulf of Mexico, the U.S. Virgin Islands, and Puerto Rico).

In compliance with the National Environmental Policy Act of 1969 (42 U.S.C. 4321 et seq.), a supplemental environmental assessment was prepared analyzing the effects of the permitted activities. After a Finding of No Significant Impact, the determination was made that it was not necessary to prepare an environmental impact statement.

Issuance of this permit amendment, as required by the ESA, was based on a finding that such permit: (1) was applied for in good faith; (2) will not operate to the disadvantage of such endangered species; and (3) is consistent with the purposes and policies set forth in section 2 of the ESA.

Dated: July 25, 2007.
P. Michael Payne,
Chief, Permits, Conservation and Education Division, Office of Protected Resources, National Marine Fisheries Service.

[FR Doc. E7-14672 Filed 7-27-07; 8:45 am]

BILLING CODE 3510-22-S